DEPARTMENT OF THE INTERIOR

National Park Service

Notice of Intent To Prepare an Environmental Impact Statement for the General Management Plan for Virgin Islands National Park

AGENCY: National Park Service, Interior.

SUMMARY: Notice is hereby given that in accordance with the National Environmental Policy Act of 1969, the U.S. Department of the Interior, National Park Service will prepare an Environmental Impact Statement on the General Management Plan for Virgin Islands National Park. The statement will assess potential environmental impacts associated with various types and levels of visitor use and resources management within the park boundary. Specific issues to be addressed include appropriate levels and types of visitor use in the park, desired conditions for the park's cultural and natural resources, and strategies and approaches needed to achieve and maintain those conditions. In cooperation with local, territory, and other Federal agencies, attention will also be given to cooperative management of resources outside the boundaries that affect the integrity of Virgin Islands National Park.

DATES: Locations, dates, and times of scheduled public scoping meetings will be published in local newspapers and posted in local libraries. Information on scheduled meetings may also be obtained by contacting the Superintendent, Virgin Islands National Park at 340-776-6201. The purpose of the scoping process is to elicit public comment regarding the full spectrum of public issues and concerns. Representatives of the National Park Service will be available to discuss issues, resource concerns, and the planning process for the GMP and EIS at each of the public meetings.

ADDRESSES: Any comments or requests for information should be addressed to: Superintendent, Virgin Islands National Park, P.O. Box 710, St. John, Virgin Islands, 00831-0710, telephone 340-776-6201.

FOR FURTHER INFORMATION CONTACT: John Barrett, National Park Service, Southeast Regional Office, 404-562-3124, extension. 637 or John King, Superintendent, Virgin Islands National Park, 340-776-6201.

SUPPLEMENTARY INFORMATION: Virgin Islands National Park comprises slightly more than half of the island of St. John and almost nine square miles of the waters surrounding St. John. Also part of the park are St. Thomas, Hassel Island, in the Charlotte Amalie harbor, and 15 acres in the Red Hook area. In recognition of its internationally significant natural resources, the park was designated as a Biosphere Reserve in 1976 and is one of the few biosphere reserves in the world to have both significant marine and terrestrial resources. Within its borders lie protected bays of crystal blue-green waters and an abundance of coral reef life, white sandy beaches shaded by seagrape trees, coconut palms, and tropical forests providing habitat for over 800 species of plants. The park's cultural resources are significant in the settlement and colonization of the New World, maritime history and commerce, and African American history. The park features relics from the Pre-Colombian Amerindian civilization, remains of the Danish Colonial sugar plantations, and reminders of African slavery and the subsistence culture that followed during the 100 years after Emancipation. Known submerged resources include 28 shipwrecks recorded in the vicinity of St. John.

This planning effort will evaluate a range of alternative methods to provide a quality visitor experience while maximizing protection of resources and operational efficiency. Public documents associated with the planning effort, including all newsletters, will be posted on the Internet through the park's Web site at http://www.nps.gov/viis.

Our practice is to make the public comments we receive in response to planning documents, including names and home addresses of respondents, available for public review during regular business hours. If you wish for us to withhold your name and/or address, you must state this prominently at the beginning of your comment. Anonymous comments will be included in the public record, however, the National Park Service is not legally required to consider or respond to anonymous comments. We will make all submissions from organizations or businesses and from individuals identifying themselves as representatives or officials of organizations or businesses available for public inspection in their entirety.

Notification of the availability of the draft and final environmental impact statement will be made to all known interested parties and appropriate agencies. Full public participation by Federal, territory and local agencies as well as other concerned organizations and private citizens is invited throughout the preparation process of this document.

The responsible official for this environmental impact statement is the Regional Director, National Park Service, Southeast Region, 100 Alabama Street SW., Atlanta, Georgia 30303.

Dated: December 11, 2002.
W. Thomas Brown,
Acting Regional Director, Southeast Region.

[FR Doc. 03-4810 Filed 2-27-03; 8:45 am]

BILLING CODE 4310-70-P